FEDERAL COMMUNICATIONS COMMISSION

47 CFR Part 25

[IB Docket Nos. 02-34, 00-248, and 96-111, FCC 03-128]

Satellite Licensing Procedures

AGENCY: Federal Communications Commission.

ACTION: Final rule.

SUMMARY: In this document, the Commission adopts a procedure that will give operators the flexibility to operate satellites in their fleets at any one of their orbit locations assigned to their fleet without individual prior Commission approval. The Commission also relaxes a licensing requirement for receive-only earth stations accessing certain foreign-licensed satellites. These actions are necessary to provide U.S.-licensed and non-U.S.-licensed satellite operators authorized to provide service to the United States more flexibility to meet their customers' needs.

DATES: This final rule contains information collection requirements that have not been approved by OMB. The Federal Communications Commission will publish a document in the Federal Register announcing the effective date of these amendments.

FOR FURTHER INFORMATION CONTACT: Steven Spaeth, Attorney Advisor, Satellite Division, International Bureau, telephone (202) 418-1539 or via the Internet at steven.spaeth@fcc.gov.

SUPPLEMENTARY INFORMATION: This is a summary of the Commission's Second Report and Order, IB Docket Nos. 02-34, 00-248, and 96-111, FCC 03-128, adopted June 4, 2003, and released June 20, 2003. The complete text of this Second Report and Order is available for inspection and copying during normal business hours in the FCC Reference Center (Room CY-A257), 445 12th Street, SW., Washington, DC 20554, and also may be purchased from the Commission's copy contractor, Qualex International, Portals II, 445 12th Street, SW., Room CY-B402, Washington, DC 20554, telephone (202) 863-2893, facsimile (202) 863-2898 or via e-mail qualexint@lol.com. It is also available on the Commission's Web site at http://www.fcc.gov.

Paperwork Reduction Act Analysis: The actions taken in the Second Report and Order have been analyzed with respect to the Paperwork Reduction Act of 1995 (PRA), Public Law No. 104-13, and found to impose new reporting requirements or burdens on the public. Implementation of these new or modified reporting and recordkeeping requirements will be subject to approval by the Office of Management and Budget (OMB) as prescribed by the PRA.

Summary of Report and Order: In this document, the Commission adopts a streamlined procedure for certain modifications of space station licenses, which it refers to as “Fleet Management” modifications. A space station operator may modify its license without prior authorization, but upon 30 days prior notice to the Commission and any potentially affected licensed spectrum user, provided that the operator meets the following requirements: (1) The space station licensee will relocate a Geostationary Satellite Orbit (GSO) space station to another orbit location that is assigned to that licensee; (2) the relocated space station licensee will operate with the same technical parameters as the space station initially assigned to that location, or within the original satellite's authorized and/or coordinated parameters; (3) the space station licensee certifies that it will comply with all the conditions of its original license and all applicable rules after the relocation; (4) the space station licensee certifies that it will comply with all applicable coordination agreements at the newly occupied orbital location; (5) the space station licensee certifies that it has completed any necessary coordination of its space station at the new location with other potentially affected space station operators; (6) the space station licensee certifies that it will limit operations of the space station to Tracking, Telemetry, and Control (TT&C) functions during the relocation and satellite drift transition period; and (7) the space station licensee certifies that the relocation of the space station does not result in a lapse of service for any current customer. The Commission also adopts rules to allow earth station operators that need to modify their licenses to repoint their antennas in response to a satellite Fleet Management modification to do so on a streamlined basis. Finally, the Commission extends its Fleet Management modification rules to non-U.S.-licensed satellites.

In addition, the Commission relaxes a licensing requirement for certain receive-only earth stations. Historically, receive-only earth stations receiving from non-U.S.-licensed satellites were required to be licensed. Under the rule revisions adopted here, receive-only earth stations receiving from non-U.S.-licensed satellites authorized to provide service to the United States because they have been placed on the Permitted List are no longer required to be licensed. For more on the Permitted List, see 64 FR 61791, Nov. 15, 1999.

Regulatory Flexibility Analysis: Final Regulatory Flexibility Certification. The Regulatory Flexibility Act of 1980, as amended (RFA)¹ requires that a regulatory flexibility analysis be prepared for rulemaking proceedings, unless the agency certifies that “the rule will not have a significant economic impact on a substantial number of small entities.” ² The RFA generally defines “small entity” as having the same meaning as the terms “small business,” “small organization,” and “small governmental jurisdiction.” ³ In addition, the term “small business” has the same meaning as the term “small business concern” under the Small Business Act.⁴ A small business concern is one which: (1) Is independently owned and operated; (2) is not dominant in its field of operation; and (3) satisfies any additional criteria established by the Small Business Administration (SBA).⁵

¹ The RFA, see 5 U.S.C. 601 et seq., has been amended by the Contract With America Advancement Act of 1996, Pub. L. No. 104-121, 110 stat. 847 (1996) (CWAAA). Title II of the CWAAA is the Small Business Regulatory Enforcement Fairness Act of 1996 (SBREFA).

² 5 U.S.C. 605(b).

³ 5 U.S.C. 601(6).

⁴ 5 U.S.C. 601(3) (incorporating by reference the definition of “small business concern” in Small Business Act, 15 U.S.C. 632).

⁵ Small Business Act, 15 U.S.C. 632.

In this Second Report and Order in IB Docket No. 02-34, the Commission adopts a streamlined procedure for space station license modification applications. The effect of these rule revisions is to reduce the administrative burdens associated with requesting space station modifications. In this Second Report and Order in IB Docket No. 00-248, the Commission eliminates a licensing requirement for certain receive-only earth stations. This will reduce the administrative burdens of those receive-only earth station owners. We expect that these changes will be minimal and positive. Therefore, we certify that the requirements of these Second Reports and Orders will not have a significant economic impact on a substantial number of small entities. The Commission will send a copy of the Second Reports and Orders, including a copy of this final certification, in a report to Congress pursuant to the Congressional Review Act, see 5 U.S.C. 801(a)(1)(A). In addition, the Second Reports and Orders and this certification will be sent to the Chief Counsel for Advocacy of the Small Business Administration, and will be published in the Federal Register. See 5 U.S.C. 605(b).

Ordering Clauses

Accordingly, it is ordered, pursuant to Sections 4(i), 7(a), 11, 303(c), 303(f), 303(g), and 303(r) of the Communications Act of 1934, as amended, 47 U.S.C. 154(i), 157(a), 161, 303(c), 303(f), 303(g), 303(r), that this Second Report and Order is hereby adopted.

It is further ordered that Part 25 of the Commission's rules is amended as set forth below. These rule revisions contain new or modified information collections that have not been approved by OMB. The Commission will publish a document in the Federal Register announcing the effective date of these rules.

It is further ordered that the revisions to part 25 adopted in this Second Report and Order and set forth below are contingent upon approval by the Office of Management and Budget.

It is further ordered that the Consumer Information Bureau, Reference Information Center, shall send a copy of this Order, including the Final Regulatory Flexibility Certification, to the Chief Counsel for Advocacy of the Small Business Administration.

It is further ordered, pursuant to § 0.261(a)(15) and § 1.2 of the Commission's rules, 47 CFR 0.261(a)(15), 1.2, that the Motion for Clarification and Declaratory Ruling filed by Home Box Office on January 4, 2000, is denied in part, to the extent indicated above.

Federal Communications Commission.
William F. Caton,
Deputy Secretary.

For the reasons discussed in the preamble, the Federal Communications Commission amends 47 CFR part 25 as follows:

PART 25—SATELLITE COMMUNICATIONS

1. The authority citation for part 25 continues to read as follows:

Authority: 47 U.S.C. 701-744. Interprets or applies sections 4, 301, 302, 303, 307, 309, and 332 of the Communications Act, as amended, 47 U.S.C. sections 154, 301, 302, 303, 307, 309, 332, unless otherwise noted.

2. Amend § 25.117 by revising paragraph (d)(1) and adding (d)(3), to read as follows:

§ 25.117 Modification of station license.

* * * * *

(d)(1) Except as set forth in § 25.118(e), applications for modifications of space station authorizations shall be filed in accordance with § 25.114, but only those items of information listed in § 25.114 that change need to be submitted, provided the applicant certifies that the remaining information has not changed.

* * * * *

(3) In the event that a space station licensee provides notification of a planned license modification pursuant to § 25.118(e), and the Commission finds that the proposed modification does not meet the requirements of § 25.118(e), the Commission will issue a public notice announcing that the proposed license modification will be considered pursuant to the procedure specified in paragraphs (d)(1) and (d)(2) of this section.

* * * * *

3. Amend § 25.118 by adding paragraph (c)(6), revising paragraph (d) and adding paragraph (e) to read as follows:

§ 25.118 Modifications not requiring prior authorization.

* * * * *

(c) * * *

(6) Earth station operators may change their points of communication without prior authorization, provided that the change results from a space station license modification described in paragraph (e) of this section, and the earth station operator does not repoint its antenna.

(d) Earth station licensees must notify the Commission using FCC Form 312 within 30 days after a modification described in paragraph (c) of this section is completed.

(e) Space Station Modifications. A space station operator other than a Direct Broadcast Service (DBS) or a Digital Audio Radio Service (DARS) satellite operator may modify its license without prior authorization, but upon 30 days prior notice to the Commission and any potentially affected licensed spectrum user, provided that the operator meets the following requirements:

(1) The space station licensee will relocate a Geostationary Satellite Orbit (GSO) space station to another orbit location that is assigned to that licensee;

(2) The relocated space station licensee will operate with the same technical parameters as the space station initially assigned to that location, or within the original satellite's authorized and/or coordinated parameters;

(3) The space station licensee certifies that it will comply with all the conditions of its original license and all applicable rules after the relocation;

(4) The space station licensee certifies that it will comply with all applicable coordination agreements at the newly occupied orbital location;

(5) The space station licensee certifies that it has completed any necessary coordination of its space station at the new location with other potentially affected space station operators;

(6) The space station licensee certifies that it will limit operations of the space station to Tracking, Telemetry, and Control (TT&C) functions during the relocation and satellite drift transition period; and

(7) The space station licensee certifies that the relocation of the space station does not result in a lapse of service for any current customer.

4. Amend § 25.131 by revising paragraphs (b) and (j) to read as follows:

§ 25.131 Filing requirements for receive-only earth stations.

* * * * *

(b) Except as provided in paragraph (j) of this section, receive-only earth stations in the fixed-satellite service that operate with U.S.-licensed satellites may be registered with the Commission in order to protect them from interference from terrestrial microwave stations in bands shared co-equally with the fixed service in accordance with the procedures of §§ 25.203 and 25.251.

* * * * *

(j)(1) Except as set forth in paragraph (j)(2) of this section, receive-only earth stations operating with non-U.S. licensed space stations shall file an FCC Form 312 requesting a license or modification to operate such station.

(2) Receive-only earth stations used to receive transmissions from non-U.S.-licensed space stations on the Permitted Space Station List need not file for licenses, provided that:

(i) The earth station antenna meets the antenna performance standards set forth in §§ 25.209(a) and (b), and

(ii) The space station operator and earth station operator comply with all applicable rules set forth in this chapter, and the conditions on the Permitted Space Station List applicable to that space station.

5. Amend § 25.137 by revising paragraph (f) to read as follows:

§ 25.137 Application requirements for earth stations operating with non-U.S. licensed space stations.

* * * * *

(f) A non-U.S.-licensed satellite operator that has been permitted to serve the United States pursuant to a Letter of Intent or Petition for Declaratory Ruling, may modify its U.S. operations under the procedures set forth in § 25.117(d). In addition, a non-U.S.-licensed satellite operator that has been permitted to serve the United States pursuant to a Petition for Declaratory Ruling, may modify its U.S. operations under the procedures set forth in § 25.118(e).

[FR Doc. 03-27217 Filed 10-31-03; 8:45 am]

BILLING CODE 6712-01-P